DEPARTMENT OF AGRICULTURE

Federal Crop Insurance Corporation

7 CFR Part 457

RIN 0563-AB96

Common Crop Insurance Regulations, Cotton Crop Insurance Provisions and Macadamia Nut Crop Insurance Provisions; Correction

AGENCY: Federal Crop Insurance Corporation, USDA.

ACTION: Final rule; Correcting amendment.

SUMMARY: This document is a correcting amendment to make corrections relating to the insurance of cotton and macadamia nuts that published March 30, 2010.

DATES: Effective Date: September 27, 2010.

FOR FURTHER INFORMATION CONTACT: Erin Albright, Risk Management Specialist, Product Management, Product Administration and Standards Division, Risk Management Agency, United States Department of Agriculture, Beacon Facility, Stop 0812, Room 421, PO Box 419205, Kansas City, MO 64141-6205, telephone (816) 926-7730.

SUPPLEMENTARY INFORMATION:

Background

The final regulation that is the subject of this correction revised the Common Crop Insurance Regulations, Basic Provisions and applicable Crop Provisions, including the Cotton Crop Insurance Provisions. In addition, FCIC revised various Crop Provisions, including the Macadamia Nut Crop Insurance Provisions, to correct specific references to the revised Common Crop Insurance Regulations, Basic Provisions. It was published March 30, 2010 (75 FR 15778-15891).

Need for Correction

As published, the final regulation contained errors which may prove to be misleading and which need to be clarified. Section 10(d) of the Cotton Crop Insurance Provisions mistakenly included language that is no longer accurate. Language in section 10(d) referring to the quality adjustment parameters listed in the Special Provisions and to the date the last bale from the unit is classed or delivered is not necessary since the basis for quality adjustment is the Upland Cotton National Average Loan Rate determined by the Farm Service Agency. Additionally, the use of the word “quotation” in the term “price quotation” is no longer accurate or necessary. FCIC is replacing the term “price quotation” in section 10(d) with the term “price.”

The introductory text of the Macadamia Nut Crop Insurance Provisions mistakenly included a reference to the 2011 and succeeding crop years. The applicability date for the final rule stated “The changes will apply for the 2011 and succeeding crop years for all crops with a 2011 contract change date on or after April 30, 2010, and for 2012 and succeeding crop years for all crops with a 2011 contract change date prior to April 30, 2010.” The 2011 contract change date for the Macadamia Nut Crop Insurance Provisions is August 31, 2010, which is prior to April 30, 2011. Therefore, this specific provision should reference the 2012 and succeeding crop years.

List of Subjects in 7 CFR Part 457

Crop Insurance, Cotton and Macadamia nut, Reporting and recordkeeping requirements.

Correction of Publication

Accordingly, 7 CFR part 457 is corrected by making the following correcting amendments:

PART 457—COMMON CROP INSURANCE REGULATIONS

1. The authority citation for 7 CFR part 457 continues to read as follows:

Authority: 7 U.S.C. 1506(l) and 1506(o).

2. Revise sections 10(d)(1) and (2) of § 457.104 to read as follows:

§ 457.104 Cotton crop insurance provisions.

* * * * *

10. Settlement of Claim

* * * * *

(d) Mature white cotton may be adjusted for quality when production has been damaged by insured causes. Such production to count will be reduced if Price A is less than 85 percent of Price B.

(1) Price B is defined as the Upland Cotton National Average Loan Rate determined by FSA, or as specified in the Special Provisions.

(2) Price A is defined as the loan value per pound for the bale determined in accordance with the FSA Schedule of Premiums and Discounts for the applicable crop year, or as specified in the Special Provisions.

(3) If eligible for adjustment, the amount of production to count will be determined by multiplying the number of pounds of such production by the factor derived from dividing Price A by 85 percent of Price B.

* * * * *

3. Revise the introductory text of § 457.131 to read as follows:

§ 457.131 Macadamia nut crop insurance provisions.

The macadamia nut crop insurance provisions for the 2012 and succeeding crop years are as follows:

* * * * *

Signed in Washington, DC, on September, 16, 2010.
Barbara Leach,
Acting Manager, Federal Crop Insurance Corporation.

[FR Doc. 2010-23884 Filed 9-24-10; 8:45 am]

BILLING CODE 3410-08-P